DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been removed from the SDN List. Their property and interests in property are no longer blocked, and U.S. persons are no longer generally prohibited from engaging in transactions with them. OFAC is also publishing an update to the identifying information of persons currently included in the SDN List.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website. (https://www.treasury.gov/ofac).

Notice of OFAC Actions

A. The Office of Foreign Assets Control designated the persons below pursuant to Executive Order 13582, “Blocking Property of the Government of Syria and Prohibiting Certain Transactions With Respect to Syria” (E.O. 13582; 3 CFR 264). On March 17, 2020, OFAC determined that circumstances no longer warrant the inclusion of the following persons on the SDN List under this authority. These persons are no longer subject to the blocking provisions of E.O. 13582.

Entities

1. BLUEMARINE SA, (a.k.a. BLUE MARINE SHIPPING AGENCY S.A.; a.k.a. BLUEMARINE AG; a.k.a. BLUEMARINE LTD), Lindenstrasse 2, Baar 6340, Switzerland [SYRIA] [FSE-SY]

2. SKIRRON HOLDING SA (a.k.a. SKIRRON HOLDING AG), Lindenstrasse 2, Baar 6340, Switzerland [SYRIA]

Individuals

3. IOANNOU, Ioannis; DOB 29 NOV 1954; POB Cyprus; nationality Cyprus; Passport E386670 (Cyprus); Identification Number 502128 (Cyprus) (individual) [SYRIA]

4. VAINSHTEIN, Arkadiy (a.k.a. VAINSHTEIN, Arkadiy Mikhailovich); DOB 30 Dec 1941; Supervisory Board Member, Tempbank (individual) [SYRIA] (Linked To: TEMPBANK)

B. The Office of Foreign Assets Control designated the persons below pursuant to Executive Order 13608, “Prohibiting Certain Transactions With and Suspending Entry Into the United States of Foreign Sanctions Evaders With Respect to Iran and Syria” (E.O. 13608; 3 CFR 252). On March 17, 2020, OFAC determined that circumstances no longer warrant the inclusion of the following persons on the Foreign Sanctions Evaders List under this authority. These persons are no longer subject to the blocking provisions of E.O. 13608.

Entity

1. BLUEMARINE SA, (a.k.a. BLUE MARINE SHIPPING AGENCY S.A.; a.k.a. BLUEMARINE AG; a.k.a. BLUEMARINE LTD), Lindenstrasse 2, Baar 6340, Switzerland [SYRIA] [FSE-SY]

C. On March 17, 2020, OFAC updated the following entries on the SDN List:

1. NICOLAOU, Nicos; DOB 06 Apr 1965; POB Cyprus; nationality Cyprus (individual) [SYRIA] (Linked To: PIRUSETI ENTERPRISES LTD; Linked To: KHURI, Mudalal).

2. EZEGOO INVESTMENTS LTD, 1 Logothetou, Lemesos 4043, Cyprus; National ID No. C310521 (Cyprus) [SYRIA] (Linked To: KHURI, Mudalal; Linked To: NICOLAOU, Nicos; Linked To: PRIMAX BUSINESS CONSULTANTS LIMITED).

Dated: March 17, 2020.
Andrea Gacki,
Director, Office of Foreign Assets Control.

[FR Doc. 2020-05931 Filed 3-19-20; 8:45 am]

BILLING CODE 4810-AL-P